DEPARTMENT OF AGRICULTURE

Forest Service

Rogue/Umpqua Resource Advisory Committee (RAC)

AGENCY: Forest Service, USDA

ACTION: Action of meeting.

SUMMARY: The Rogue/Umpqua Resource Advisory Committee (RAC) will meet on Thursday and Friday, July 13 and 14, 2006, at Diamond Lake Resort, Oregon. The meeting is scheduled to begin at 8 a.m. and conclude at 5:30 p.m. on July 13 and begin at 8 a.m. and conclude at 4:30 p.m. on July 14. On July 13, the agenda includes: (1) Approval of 2005 and 2006 meeting minutes. (2) approval of RAC expenses, (3) review of past and proposed projects in Douglas County at 8:30 a.m., (4) Public Forum at 10:30 a.m., and (5) review of past and proposed projects for Lane County at 4 p.m. The agenda for July 14 includes (1) Review of past and proposed projects for Klamath County at 8:30 a.m., (2) Public Forum at 9:45 a.m., (3) review of past and proposed projects for Jackson County at 10:15 a.m., (4) Stewardship collaboration project at 2:30 p.m., and (5) closing remarks at 4:15 p.m. Written public comments may be submitted prior to the July meeting by sending them to Designated Federal Official Richard Sowa at the address given below.

FOR FURTHER INFORMATION CONTACT: For more information regarding this meeting, contact Designated Federal Official Richard Sowa; Umpqua National Forest; 2900 NW Stewart Parkway, Roseburg, Oregon 97470; (541) 957-3203.

Dated: May 31, 2006.
Richard Sowa,
Acting Forest Supervisor, Umpqua National Forest.

[FR Doc. 06-5179 Filed 6-6-06; 8:45 am]

BILLING CODE 3410-11-M